DEPARTMENT OF VETERANS AFFAIRS

[OMB Control No. 2900-New (LGY Surveys)]

Agency Information Collection Activities (LGY Surveys) Under OMB Review

AGENCY: Veterans Benefits Administration, Department of Veterans Affairs.

ACTION: Notice.

SUMMARY: In compliance with the Paperwork Reduction Act (PRA) of 1995 (44 U.S.C. 3501-21), this notice announces that the Veterans Benefits Administration (VBA), Department of Veterans Affairs, will submit the collection of information abstracted below to the Office of Management and Budget (OMB) for review and comment. The PRA submission describes the nature of the information collection and its expected cost and burden and it includes the actual data collection instrument.

DATES: Comments must be submitted on or before March 24, 2008.

ADDRESSES: Submit written comments on the collection of information through www.Regulations.gov; or to VA's OMB Desk Officer, OMB Human Resources and Housing Branch, New Executive Office Building, Room 10235, Washington, DC 20503, (202) 395-7316. Please refer to “OMB Control No. 2900-New (LGY Surveys)” in any correspondence.

FOR FURTHER INFORMATION OR A COPY OF THE SUBMISSION CONTACT: Denise McLamb, Records Management Service (005R1B), Department of Veterans Affairs, 810 Vermont Avenue, NW., Washington, DC 20420, (202) 461-7485, FAX (202) 273-0443 or e-mail: denise.mclamb@mail.va.gov. Please refer to “OMB Control No. 2900-New (LGY Surveys).”

SUPPLEMENTARY INFORMATION: Titles:

a. Survey of Veterans Satisfaction with the VA Home Loan Guaranty Process.

b. Loan Guaranty Service, Lender Survey.

c. VA Specially Adapted Housing Program Survey.

d. VA Specially Adapted Housing Program Survey: Eligible Non-Grantee Survey.

OMB Control Number: 2900-New (LGY Surveys).

Type of Review: New collection.

Abstract: The surveys will be used to gather information from veterans and lenders about the VA Loan Guaranty Program. The information collected will allow the VA to determine customer satisfaction with the VA's processes and to make improvements so that the program best serves the needs of eligible veterans. Additionally, VA will use the information collected from eligible users and non-users of the Specially Adapted Housing Grant Program to determine the satisfaction of grant recipients and understand the reasons why certain eligible veterans have not used this benefit.

An agency may not conduct or sponsor, and a person is not required to respond to a collection of information unless it displays a currently valid OMB control number. The Federal Register Notice with a 60-day comment period soliciting comments on this collection of information was published on December 12, 2007, at pages 70643-70644.

Affected Public: Individuals or households.

Estimated Annual Burden:

a. Survey of Veterans Satisfaction with the VA Home Loan Guaranty Process—1,688 hours.

b. Loan Guaranty Service, Lender Survey—250 hours.

c. VA Specially Adapted Housing Program Survey—100 hours.

d. VA Specially Adapted Housing Program Survey: Eligible Non-Grantee Survey—58 hours.

Estimated Average Burden per Respondent:

a. Survey of Veterans Satisfaction with the VA Home Loan Guaranty Process—15 minutes.

b. Loan Guaranty Service, Lender Survey—15 minutes.

c. VA Specially Adapted Housing Program Survey—15 minutes.

d. VA Specially Adapted Housing Program Survey: Eligible Non-Grantee Survey—5 minutes.

Frequency of Response: On occasion.

Estimated Number of Respondents:

a. Survey of Veterans Satisfaction with the VA Home Loan Guaranty Process—6,750.

b. Loan Guaranty Service, Lender Survey—1,000.

c. VA Specially Adapted Housing Program Survey—400.

d. VA Specially Adapted Housing Program Survey: Eligible Non-Grantee Survey—700.

Dated: February 12, 2008.
By direction of the Secretary.
Denise McLamb,
Program Analyst, Records Management Service.

[FR Doc. E8-3243 Filed 2-20-08; 8:45 am]

BILLING CODE 8320-01-P